DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, not later than June 29, 2015.

Interested persons are invited to submit written comments regarding the subject matter of the investigations to the Director, Office of Trade Adjustment Assistance, at the address shown below, not later than June 29, 2015.

The petitions filed in this case are available for inspection at the Office of the Director, Office of Trade Adjustment Assistance, Employment and Training Administration, U.S. Department of Labor, Room N-5428, 200 Constitution Avenue NW., Washington, DC 20210.

Signed at Washington, DC this 11th day of May 2015.
Michael W. Jaffe,
Certifying Officer, Office of Trade Adjustment Assistance.

Appendix
[44 TAA petitions instituted between 4/27/15 and 5/8/15]
TA-W | Subject firm (petitioners) | Location | Date of institution | Date of petition
85959 | Wirerope Works Inc. (Workers) | Williamsport, PA | 04/27/15 | 04/24/15
85960 | Hamilton Scientific (State/One-Stop) | Round Rock, TX | 04/27/15 | 04/23/15
85961 | Modine Manufacturing Company (Company) | Washington, IA | 04/27/15 | 04/24/15
85962 | Murata Power Solutions (Company) | Mansfield, MA | 04/27/15 | 04/24/15
85963 | Pure Power Technologies (Union) | Indianapolis, IN | 04/27/15 | 02/25/15
85964 | TMK IPSCO Koppel Tubulars (Workers) | Ambridge, PA | 04/27/15 | 04/23/15
85965 | Cathedral Art Metal Company, Inc. (State/One-Stop) | Providence, RI | 04/28/15 | 04/27/15
85966 | Sirius Computer Solutions, Inc. (State/One-Stop) | San Antonio, TX | 04/28/15 | 04/27/15
85967A | Leased Workers from Kelly Services and Co. Worx Staffing (Company) | Braintree, MA | 04/28/15 | 04/27/15
85967 | Haemonetics Corporation (Company) | Braintree, MA | 04/28/15 | 04/27/15
85968 | Wolff Fording & Company (Workers) | Richmond, VA | 04/28/15 | 04/19/15
85969 | Republic Storage Systems, LLC (Company) | Canton, OH | 04/28/15 | 04/27/15
85970 | Alcoa (Company) | Lafayette, IN | 04/28/15 | 04/28/15
85971 | Schott Gemtron (Workers) | Vincennes, IN | 04/29/15 | 04/28/15
85972 | Nut Processors Inc. (State/One-Stop) | El Paso, TX | 04/30/15 | 04/29/15
85973 | CenturyLink (Company) | Wake Forest, NC | 05/01/15 | 04/30/15
85974 | CenturyLink (Company) | Leesburg, FL | 05/01/15 | 04/30/15
85975 | Regulator Technologies Tulsa, LLC (Workers) | Tulsa, OK | 05/01/15 | 04/30/15
85976 | Bonney Forge (Workers) | Mount Union, PA | 05/01/15 | 03/26/15
85977 | Sanquine Gas Exploration LLC (State/One-Stop) | Tulsa, OK | 05/04/15 | 05/01/15
85978 | Simpson Lumber LLC (Union) | Shelton, WA | 05/04/15 | 04/29/15
85979 | American Standard (Company) | Nevada, MO | 05/04/15 | 05/01/15
85980 | Essex Group Inc. (Union) | Kendallville, IN | 05/04/15 | 05/04/15
85981 | Stein Steel Mill Services, Inc. (Union) | Granite City, IL | 05/05/15 | 05/01/15
85982 | Bosch Securities Inc. (Union) | Lancaster, PA | 05/05/15 | 05/04/15
85983 | MegaDiamond (Workers) | Provo, UT | 05/05/15 | 05/04/15
85984 | Micro Contacts, Inc. (Company) | Hicksville, NY | 05/05/15 | 04/29/15
85985 | New Wave Surgical/Covidien (Company) | Pompano Bay, FL | 05/05/15 | 05/01/15
85986 | Rockwell Automation-Anorad (State/One-Stop) | East Setauket, NY | 05/05/15 | 05/01/15
85987 | Dresser-Rand Company (State/One-Stop) | Wellsville, NY | 05/06/15 | 05/04/15
85987A | Dresser-Rand Company (State/One-Stop) | Olean, NY | 05/06/15 | 05/04/15
85988 | Nextit (State/One-Stop) | Spokane, WA | 05/06/15 | 04/23/15
85989 | Milliken & Company (Company) | Greenville, SC | 05/06/15 | 05/05/15
85990 | Maxim Integrated (State/One-Stop) | Hillsboro, OR | 05/06/15 | 05/05/15
85991 | Caterpillar, Inc. (State/One-Stop) | Decatur, IL | 05/07/15 | 05/06/15
85992 | Verizon (State/One-Stop) | Cary, NC | 05/07/15 | 05/06/15
85993 | TMK-IPSCO Tubulars Kentucky Inc. (Union) | Wilder, KY | 05/07/15 | 05/01/15
85994 | Superior Industries International, Inc. (Company) | Van Nuys, CA | 05/07/15 | 05/06/15
85995 | Seacon Brantner & Associates (Company) | El Cajon, CA | 05/07/15 | 05/06/15
85996 | Willbanks Metals, Inc. fka First Process Steel (State/One-Stop) | Tulsa, OK | 05/07/15 | 05/06/15
85997 | United States Steel Corporation (State/One-Stop) | Pine Bluff, AR | 05/08/15 | 05/07/15
85998 | Baker Hughes Oilfield Operations, Inc. (State/One-Stop) | Hampton, AR | 05/08/15 | 05/07/15
85999 | Carlson Craft (State/One-Stop) | North Mankato, MN | 05/08/15 | 05/07/15
86000 | Cudd Energy Services (State/One-Stop) | Seminole, OK | 05/08/15 | 03/23/15

[FR Doc. 2015-15051 Filed 6-18-15; 8:45 am]

BILLING CODE 4510-FN-P